DEPARTMENT OF COMMERCE

National Oceanic and Atmospheric Administration

[Docket No. 070207025-7025-01; I.D. 051906D]

RIN 0648-ZB55

FY 2007 Broad Agency Announcement Request for Extramural Research, Innovative Projects, and Sponsorships

AGENCY: National Oceanic and Atmospheric Administration (NOAA), Commerce.

ACTION: Notice of the availability of Federal assistance.

SUMMARY: NOAA announces the availability of Federal assistance under the Broad Agency Announcement (BAA) for fiscal year 2007. The purpose of this notice is to request proposals for special projects and programs associated with the Agency's strategic plan and mission goals, as described in the SUPPLEMENTARY INFORMATION section, and to provide the general public with information and guidelines on how NOAA will select proposals and administer discretionary Federal assistance under this BAA. NOAA issued approximately $1 billion in Federal assistance funds in fiscal year 2006. Approximately 81 percent was for discretionary funding and 19 percent non-discretionary. This BAA is a mechanism to encourage research, technical projects, or sponsorships (e.g., conferences, newsletters, etc.) that are not normally funded through our competitive discretionary programs.

DATES: Proposals will be accepted on a rolling basis up to 5 p.m. ET September 28, 2007. Applications shall be evaluated for funding generally within 3 to 6 months of receipt.

ADDRESSES: All proposals should be submitted through Grants.Gov. For those applicants without internet access, hard copy applications may be submitted to the individuals listed below under FOR FURTHER INFORMATION CONTACT.

FOR FURTHER INFORMATION CONTACT: This announcement, the Federal Funding Opportunity (FFO) announcement, and application forms will be available through Grants.Gov: http://www.grants.gov. For those applicants without internet access, the above information can be acquired by contacting the following individuals:

National Marine Fisheries Service (NMFS), Joanna Grable, Route: F/MB2, Bldg: SSMC3 Rm: 14359, 1315 East-West Hwy, Silver Spring, MD 20910-3282, Phone: 301-713-1364.

National Ocean Service (NOS), Jane Piercy, Route: N/MB3, Bldg: SSMC4 Rm: 13250, 1305 East-West Hwy, Silver Spring MD 20910-3281, Phone: 301-713-3050.

Office of Atmospheric Research (OAR), Sharon Schroeder, Route: R/OM61, Bldg: SSMC3 Rm: 11464, 1315 East-West Hwy, Silver Spring, MD 20910-3282, Phone: 301-713-2474.

National Weather Service (NWS), Youngnan Cohan, Route: W/CFO2, Bldg: SSMC2 Rm: 18394, 1325 East-West Hwy, Silver Spring MD 20910-3283, Phone: 301-713-0420.

National Environmental Satellite Data Information Service (NESDIS), Ingrid Guch, Route: E/RA1, Bldg: WWBG RM: 701, 5200 Auth RD, Camp Springs, MD 20746-4304, Phone: 301-763-8282.

NOAA, Office of Education, Carrie McDougall, Bldg: HCHB Suite: M6863, 1401 Constitution Ave., NW, Washington, DC 20230-0001, Phone: 202-482-0875.

SUPPLEMENTARY INFORMATION: As an agency with responsibilities for maintaining and improving the viability of marine and coastal ecosystems, for delivering valuable weather, climate, and water information and services, for understanding the science and consequences of climate change, and for supporting the global commerce and transportation upon which we all depend, NOAA must remain current and responsive in an ever-changing world. We do this in concert with our partners and stakeholders in federal, state, and local governments and private organizations, applying a systematic approach that links our strategic goals through multi-year plans to the daily activities of our employees. Every year we are committed to re-evaluate our progress and priorities, look for efficiencies, and take advantage of new opportunities to improve our information, products, and services. In furtherance of this objective, NOAA issues this BAA for extramural research, innovative projects, and sponsorships that address one or more of the following five mission goal descriptions contained in the NOAA Strategic Plan:

1. Protect, Restore, and Manage the Use of Coastal and Ocean Resources through an Ecosystem Approach to Management;

2. Understand Climate Variability and Change to Enhance Society's Ability to Plan and Respond;

3. Serve Society's Needs for Weather and Water Information;

4. Support the Nation's Commerce with Information for Safe, Efficient, and Environmentally Sound Transportation; and

5. Provide Critical Support for NOAA's Mission.

A detailed description for each mission goal can be found in the FFO that can be accessed via the Grants.gov Web site, by contacting the program official identified in the FOR FURTHER INFORMATION CONTACT section, or by accessing the following: http://www.spo.noaa.gov/pdfs/STRATEGIC%%20PLANS/Strategic_Plan_2006_FINAL_04282005.pdf.

Proposals that fall within the scope of a separate competitive program initiative or are duplicative of a nondiscretionary project/program will not be accepted under this BAA and will be rejected by the Line/Program Office. In addition, non-responsive applications, i.e., those not meeting the mission goals of NOAA or the intent of this notice, will not be considered. It should be noted that specific competitive program initiatives may have already been announced and those unanticipated at the time of the publication of this notice may be announced through future Federal Register notices.

This announcement also provides guidelines and details for the application process, eligibility, evaluation criteria, and selection procedures. Selected applicants will either enter into a grant or receive a cooperative agreement depending upon the amount of NOAA's involvement in the project - substantial involvement means a cooperative agreement.

Electronic Access

The full text of the full funding opportunity announcement for this BAA can be accessed via the Grants.gov Web site: http://www.grants.gov. The announcement will also be available by contacting the program officials identified under FOR FURTHER INFORMATION CONTACT. Applicants must comply with all requirements contained in the FFO. This Federal Register notice is available through the NOAA home page at: http://www.noaa.gov.

You will be able to access, download and submit electronic grant applications for this announcement at http://www.grants.gov. The closing dates will be the same as for the paper submissions noted in this announcement. NOAA strongly recommends that you do not wait until the application deadline date to begin the application process through Grants.gov. Getting started with Grants.gov is easy! Go to http://www.grants.gov. There are two key features on the site: Find Grant Opportunities and Apply for Grants. Everything else on the site is designed to support these two features and your use of them. While you can begin searching for grant opportunities for which you would like to apply immediately, it is recommended that you complete the remaining Get Started steps sooner rather than later, so that when you find an opportunity for which you would like to apply, you are ready to go. Individuals do not need a DUNS number to register to submit applications. The system will generate a default value in that field. Individuals who plan to submit a grant application using Grants.gov are required to register with the Credential Provider (Step 3 B) and register with Grants.gov (Step 4 B).

Get Started, Step 1 B: Find Grant Opportunity for Which You Would Like To Apply

Start your search for Federal government-wide grant opportunities and register to receive automatic e-mail notifications of new grant opportunities or any modifications to grant opportunities as they are posted to the site by clicking the Find Grant Opportunities tab at the top of the page.

Get Started, Step 2 B: Organizations Must Register With Central Contractor Registry (CCR)

Your organization will also need to be registered with Central Contractor Registry. You can register with them online. This will take about 30 minutes. You should receive your CCR registration within 3 business days. Important: You must have a DUNS number from Dun & Bradstreet before you register with CCR. Many organizations already have a DUNS number. To determine if your organization already has a DUNS number or to obtain a DUNS number, contact Dun & Bradstreet at 1-866-705-5711. This will take about 10 minutes and is free of charge. Be sure to complete the Marketing Partner ID (MPIN) and Electronic Business Primary Point of Contact fields during the CCR registration process. These are mandatory fields that are required when submitting grant applications through Grants.gov.

Get Started, Step 3 B: Register With the Credential Provider

You must register with a Credential Provider to receive a username and password. This will be required to securely submit your grant application.

Get Started, Step 4 B: Register With Grants.gov

The final step in the Get Started process is to register with Grants.gov. This will be required to submit grant applications on behalf of your organization. After you have completed the registration process, you will receive e-mail notification confirming that you are able to submit applications through Grants.gov.

Get Started, Step 5: B Log on to Grants.gov

After you have registered with Grants.gov, you can log on to Grants.gov to verify if you have registered successfully, to check application status, and to update information in your applicant profile, such as your name, telephone number, e-mail address, and title. In the future, you will have the ability to determine if you are authorized to submit applications through Grants.gov on behalf of your organization. In the interim, only the authorized representative can submit an application to Grants.gov. Please ensure your organization makes an authorized representative designation.

Electronic Application File Format and Naming Conventions

After the initial grant application package has been submitted to NOAA (e.g., via Grants.gov), requests for additional or modified forms may be requested by NOAA. Applicants should resubmit forms in Portable Document File (PDF) format and follow the following file naming convention to name resubmitted forms. For example: 98042—SF-424-mm-dd-yy—v2.pdf.

(1) 98042 = Proposal (provided to applicant by Grants.gov & NOAA)

(2) SF-424 = Form Number

(3) mm-dd-yy = Date

(4) v2 = Version Number

To learn how to convert documents to PDF go to: http://www.grants.gov/assets/PDFConversion.pdf.

The above is suggested in order to obtain consistency and have the documents readily identifiable to the appropriate program and/or grants office staff personnel responsible for the application. The Grants.gov website provides specific instructions regarding conversion. However, in FY2007 applicants can still submit the requested additional documents through the mail or facsimile as a last resort if needed.

Eligibility Criteria and Prescreening Process

Eligible Applicants

Eligible applicants may be institutions of higher education, non-profits, commercial organizations, international or foreign organizations, governments, individuals, state, local and Indian tribal governments. Eligibility also depends on the statutory authority that permits NOAA to fund the proposed activity. Eligible applicants should go to the Catalog of Federal Domestic Assistance (CFDA) to see if they are eligible. A current listing of the CFDA programs that may be eligible for funding can be found in the FFO posted at Grants.gov that accompanies this BAA.

Prescreening Process/Minimum Requirements Review

Upon receipt of a full application by NOAA, an initial administrative review will be conducted to determine eligibility for award, compliance with requirements and completeness of the application. This review includes determining whether or not:

1. Statutory authority exists to provide financial assistance for the project or organization;

2. A complete application package has been submitted;

3. The Project Description/Narrative is consistent with one or more of NOAA's mission goals;

4. The proposal falls within the scope of an existing NOAA competitive announcement or duplicates an existing nondiscretionary project (if it does, it cannot be funded under this announcement); and

5. The work in the proposal will directly benefit NOAA (if it will, it should be supported by a procurement contract, not a financial assistance award which cannot be funded under this announcement, as provided in 31 U.S.C. 6303).

Applications not passing this initial review will be returned to the applicant.

Evaluation Criteria and Selection Procedures

All proposals submitted in response to this BAA shall be evaluated and selected in accordance with the following procedures.

Proposal Review and Selection Process

NOAA will evaluate proposal(s) determined to be eligible under this BAA individually (i.e., proposals will be not compared to each other). Proposals are judged and awarded based on the evaluation factors described below so long as funds, if any, are available. The merit review is conducted by mail reviewers and/or peer panel reviewers. Each reviewer will individually evaluate the proposal(s) using the evaluation criteria provided below. A minimum of three merit reviewers per proposal is required. The reviewers may be any combination of Federal and/or non-federal personnel. The proposal(s) will be individually scored (i.e., a consensus is not reached) unless all reviewers are Federal employees. Only then can a consensus be reached by the Federal reviewers, at the discretion of the selection official. NOAA selects evaluators on the basis of their professional qualifications and expertise as related to the unique characteristics of the proposal. The NOAA Program Officer will assess the evaluations and make a fund or do not fund recommendation to the Selecting Official based on the evaluations of the reviewers. The Selecting Official selects proposal(s) after considering the reviews and recommendations of the Program Officer. Any application considered for funding may be required to address the issues raised in the evaluation of the proposal by the reviewers, Program Officer, Selecting Official, and/or Grants Officer before an award is issued.

Applications not selected for funding under this announcement in FY2007 may be considered for funding from FY2008 funds but, in response to NOAA's request, may be required to revalidate the terms of the original application or resubmit in the next BAA cycle if one is published for the next fiscal year.

Proposals not selected for funding will be destroyed.

The Program Officer, Selecting Official and/or Grants Officer may negotiate the final funding level of the proposal with the intended applicant. The Selecting Official makes the final recommendation for award to the NOAA Grants Officer who is authorized to commit the Federal Government and obligate the funds.

Evaluation Criteria for BAA Projects

NOAA has standardized evaluation criteria for all competitive assistance announcements. The criteria as applied to this BAA are listed below. Since proposals responding to this BAA may vary significantly in their activities/objectives, assigning a set weight for each evaluation criterion is not feasible but is based on a total possible score of 100. The Program Office and/or Selection Official will determine which of the following criteria and weights will be applied. Some proposals, for example sponsorships, may not be able to be evaluated against all the criteria like technical/scientific merit. However, it is in your best interest to prepare a proposal that can be easily evaluated against these five criteria.

1. Importance and/or Relevance and Applicability of Proposed Project to the Mission Goals

This ascertains whether there is intrinsic value in the proposed work and/or relevance to NOAA, federal, regional, state, or local activities: i.e., How does the proposed activity enhance NOAA's strategic plan and mission goals? Proposals should also address significance/possibilities of securing productive results: i.e., Does this study address an important problem?; If the aims of the application are achieved, how will scientific knowledge be advanced?; What will be the effect of these studies on the concepts or methods that drive this field?; What effect will the project have on improving public understanding of the role the ocean, coasts, and atmosphere in the global ecosystem? Proposals will also be scored for innovation: i.e., Does the project employ novel concepts, approaches or methods?: Are the aims original and innovative?: Does the project challenge existing paradigms or develop new methodologies or technologies?

2. Technical/Scientific Merit

This assesses whether the approach is technically sound and if the methods are appropriate, and whether there are clear project goals and objectives. Proposals should address the approach/soundness of design: i.e., Are the conceptual framework, design, methods, and analyses adequately developed, well-integrated, and appropriate to the aims of the project?; Does the applicant acknowledge potential problem areas and consider alternative tactics? This criterion should also address the applicant's proposed methods for monitoring, measuring, and evaluating the success or failure of the project: i.e., What are they? Are they appropriate?

3. Overall Qualifications of Applicants

This ascertains whether the applicant possesses the necessary education, experience, training, facilities, and administrative resources to accomplish the project. If appropriate, proposals should also address the physical environment and collaboration, if any: i.e., Does the environment in which the work will be done contribute to the probability of success? Do the proposed experiments or activities take advantage of unique features of the intended environment or employ useful collaborative arrangements?

4. Project Costs

The Budget is evaluated to determine if it is realistic and commensurate with the project needs and time-frame.

5. Outreach and Education

NOAA assesses whether this project provides a focused and effective education and outreach strategy regarding NOAA's mission to protect the Nation's environmental resources. For example, how will the outcomes of the project be communicated to NOAA and the interested public to ensure it has met the project objectives over the short, medium or long term? Does the project address any of the goals or employ any of the strategies of the NOAA Education Plan (http://www.oesd.noaa.gov/NOAA_Ed_Plan.pdf)?

Statutory Authority: The specific program authority will vary depending on the nature of the proposed project. A list of the most prevalent assistance authorities are 15 U.S.C. 1540; 15 U.S.C. 2901 et seq.; 16 U.S.C. 661; 16 U.S.C. 1456c; 33 U.S.C. 883a-d; 33 U.S.C. 1442; 49 U.S.C. 44720(b).

Catalog of Federal Domestic Assistance (CFDA) Number: The CFDA number will vary depending on the nature of the proposed project. The applicant should consult the Catalog of Federal Domestic Assistance series 11.400 - 11.481 and review the subset of CFDA's applicable to this BAA to select the most accurate program for the proposed project. The link to the catalog for NOAA programs is as follows: http://12.46.245.173/pls/portal30/CATALOG.BROWSE_SUBAGENCY_PROGRAM_RPT.SHOW?p_arg_names=agency_id&p_arg_values=206.

Funding Availability: There is no direct level of Congressional funding available for this BAA. Funding of a project is completely at the discretion of the program office willing to support the proposed activities. Appropriations from FY2007 or FY2008 (if and when available) may be used to fund applications in response to this BAA.

Application Deadline: Full applications can be submitted on a rolling basis up to 5 p.m. Eastern Time September 28, 2007. Applications received after this time will be returned without review. Applications shall be evaluated for funding generally within 3 to 6 months of receipt. An applicant can expect to receive either a rejection notice, request for additional information, and/or award within that timeframe.

Cost Sharing Requirements: Cost sharing is not required unless it is determined that a project can only be funded under an authority that requires matching funds.

Application Requirements: Full applications will be required to submit the standard forms as posted in the FFO, in addition to a project narrative (which must include a synopsis which is not to exceed one page), budget narrative, and project timeline.

Intergovernmental Review: Applications under this program may be subject to Executive Order (E.O.) 12372, “Intergovernmental Review of Federal Programs.” Refer to the appropriate CFDA number listed on your application for the applicability of this E.O. to your proposal.

Limitation of Liability

Funding for potential projects in this notice is contingent upon the availability of fiscal year 2007 appropriations. Applicants are hereby given notice that funds have not yet been appropriated for any proposed activities in this notice. In no event will NOAA or the Department of Commerce be responsible for proposal preparation costs. Publication of this announcement does not oblige NOAA to award any specific project or to obligate any available funds.

Universal Identifier

Applicants should be aware that, for programs which have deadline dates on or after October 1, 2003, they may be required to provide a Dun and Bradstreet Data Universal Numbering System (DUNS) number during the application process. See the October 30, 2002 Federal Register (67 FR 66177) for additional information. Organizations can receive a DUNS number at no cost by calling the dedicated toll-free DUNS Number request line at 1-866-705-5711 or via the internet (http://www.dunandbradstreet.com).

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216--6--TOC.pdf, NEPA Questionnaire, http://www.nepa.noaa.gov/questionnaire.pdf, and the Council on Environmental Quality implementation regulations, http://ceq.eh.doe.gov/nepa/regs/ceq/toc--ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Compliance with Department of Commerce Bureau of Industry and Security Export Administration Regulations

a. This section applies to the extent that this BAA results in financial assistance awards involving access to export-controlled information or technology.

b. In performing a financial assistance award, the recipient may gain access to export-controlled information or technology. The recipient will then be responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export-controlled information and technology.

c. Definitions

1. Deemed export. The Export Administration Regulations (EAR) define a deemed export as any release of technology or source code subject to the EAR to a foreign national, both in the United States and abroad. Such release is “deemed” to be an export to the home country of the foreign national. 15 CFR 734.2(b)(2)(ii).

2. Export-controlled information and technology. Export-controlled information and technology is information and technology subject to the EAR (15 CFR parts 730 et seq.), implemented by the DOC Bureau of Industry and Security, or the International Traffic I Arms Regulations (ITAR) (22 CFR parts 120-130), implemented by the Department of State, respectively. This includes, but is not limited to, dual-us items, defense articles and any related assistance, services, software or technical data as defined in the EAR and ITAR.

d. The recipient shall control access to all export-controlled information and technology that it possesses or that comes into its possession in performance of a financial assistance award, to ensure that access is restricted, or licensed, as required by applicable Federal laws, Executive Orders, and/or regulations.

e. Nothing in the terms of this section is intended to change, supersede, or waive any of the requirements of applicable Federal laws, Executive Orders or regulations.

f. The recipient shall include this clause, including this paragraph (f), in all lower tier transactions (subawards, contracts, and subcontracts) under the financial assistance award that may involve access to export-controlled information technology.

NOAA implementation of Homeland Security Presidential Directive - 12

If the performance of a financial assistance award, if approved by NOAA, requires recipients to have physical access to Federal premises for more than 180 days or access to a Federal information system, any items or services delivered under a financial assistance award shall comply with the Department of Commerce personal identity verification procedures that implement Homeland Security Presidential Directive - 12, FIPS PUB 201, and the Office of Management and Budget Memorandum M-05-24. The recipient shall insert this clause in all subawards or contracts when the subaward recipient or contractor is required to have physical access to a Federally controlled facility or access to a Federal information system.

The Department of Commerce Pre-Award Notification Requirements for Grants and Cooperative Agreements

The Department of Commerce Pre-Award Notification Requirements for Grants and Cooperative Agreements contained in the Federal Register notice of December 30, 2004 (69 FR 78389) are applicable to this solicitation.

Paperwork Reduction Act

This document contains collection-of-information requirements subject to the Paperwork Reduction Act (PRA). The use of Standard Forms 424 and 424A, 424B, 424C, 424D, SF-LLL, and CD-346 has been approved by OMB under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: February 12, 2007.
Daniel L. Clever,
Deputy Director, Acquisition and Grants Office, National Oceanic and Atmospheric Administration.

[FR Doc. E7-2833 Filed 2-19-07; 8:45 am]

BILLING CODE 3510-12-S